NUCLEAR REGULATORY COMMISSION

10 CFR Parts 2, 9, 40, 50, 61, 71, 73, and 110

RIN 3150-AK08

[NRC-2017-0170]

Miscellaneous Corrections

AGENCY: Nuclear Regulatory Commission.

ACTION: Final rule.

SUMMARY: The U.S. Nuclear Regulatory Commission (NRC) is amending its regulations to make miscellaneous corrections. The amendments include correcting references, an address and a misspelling. The amendments will also make references to persons in one part of the NRC's regulations gender neutral. This document is necessary to inform the public of these non-substantive amendments to the NRC's regulations.

DATES: This rule is effective December 15, 2017. The material incorporated by reference was previously approved by the Director of the Federal Register.

ADDRESSES: Please refer to Docket ID NRC-2017-0170 when contacting the NRC about the availability of information for this final rule. You may obtain publicly-available information related to this final rule by any of the following methods:

• Federal Rulemaking Web site: Go to http://www.regulations.gov and search for Docket ID NRC-2017-0170. Address questions about NRC dockets to Carol Gallagher; telephone: 301-415-3463; email: Carol.Gallagher@nrc.gov. For technical questions, please contact the individual listed in the FOR FURTHER INFORMATION CONTACT section of this final rule.

• NRC's Agencywide Documents Access and Management System (ADAMS): You may obtain publicly-available NRC documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. There are no NRC documents referenced in this document.

• NRC's PDR: You may examine and purchase copies of public documents at the NRC's PDR, Room O1-F21, One White Flint North, 11555 Rockville Pike, Rockville, Maryland 20852.

FOR FURTHER INFORMATION CONTACT: Dawn Forder, Office of Nuclear Material Safety and Safeguards, telephone: 301-415-3407, email: Dawn.Forder@nrc.gov; U.S. Nuclear Regulatory Commission, Washington, DC 20555-0001.

SUPPLEMENTARY INFORMATION:

I. Introduction

The NRC is amending its regulations in parts 2, 9, 40, 50, 61, 71, 73, and 110 of title 10 of the Code of Federal Regulations (10 CFR) to make miscellaneous corrections. The amendments include correcting references, an address and a misspelling. The amendments will also make references to persons in one part of the NRC's regulations gender neutral. Future NRC miscellaneous corrections rules will amend other parts of the regulations for gender neutral references until all references have been amended. This document is necessary to inform the public of these non-substantive amendments to the NRC's regulations.

II. Summary of Changes

10 CFR Part 2

Correct Reference. In § 2.1200, this final rule removes the incorrect reference to § 2.101(f)(8) and replaces it with the correct reference § 2.101(e)(8).

10 CFR Part 9

Revise Nomenclature. This final rule revises all gender references in 10 CFR part 9 to include both male and female genders. Future miscellaneous corrections rules will revise additional male only gender references throughout 10 CFR Chapter I.

10 CFR Part 40

Correct Reference. In § 40.35(f), this final rule removes the incorrect reference “§ 40.31(i)” and replaces it with the correct reference “§ 40.31(j)(1)-(4)”.

10 CFR Part 50

Correct Omission. In § 50.43(e), this final rule adds standard design approvals (SDAs) to the requirements for certain reactor applicants performing demonstrations or tests prior to NRC approval of the design, per the SDA content of applications requirement at § 52.137(b). The SDA requirements were discussed as part of the Statements of Consideration for the previous amendment to § 50.43(e); however, the addition was omitted from the regulatory text (72 FR 49352). This final rule corrects that omission.

Correct Reference. In § 50.55a(b)(2)(ix)(B), this final rule revises the rule language to correctly reference the relevant table. The table designation in Section XI, Division 1, of the American Society of Mechanical Engineers Boiler and Pressure Vessel Code changed from Table IWA-2210-1 to IWA-2211-1 starting with the 2005 Addenda, which was approved for incorporation by reference in 2011 (76 FR 36232; June 21, 2011).

10 CFR Parts 61, 71, and 73

Correct Reference. Title 25 of the United States Code (25 U.S.C.) was reclassified and renumbered, which changed the location of some of the citations used in the NRC's regulations. These changes will update the citations used, but not make substantive changes. Title 25 U.S.C. 479a is now located at 25 U.S.C. 5130. Title 25 U.S.C. 450 is now 25 U.S.C. 5301; however, the actual section with the definition is 25 U.S.C. 5304.

Correct Address. In part 73, appendix A, the incorrect zip code “30303-1245” for Region II is corrected to read “30303-1257”.

10 CFR Part 110

Correct Spelling. In part 110, this final rule removes all instances of the misspelled term “terabequeral” and replaces them with the correct term “terabecquerel”.

III. Rulemaking Procedure

Under the Administrative Procedure Act (5 U.S.C. 553(b)), an agency may waive publication in the Federal Register of a notice of proposed rulemaking and opportunity for comment requirements if it finds, for good cause, that they are impracticable, unnecessary, or contrary to the public interest. As authorized by 5 U.S.C. 553(b)(3)(B), the NRC finds good cause to waive notice and opportunity for comment on these amendments, because notice and opportunity for comment are unnecessary. The amendments will have no substantive impact and are of a minor and administrative nature dealing with corrections to certain CFR sections related only to management, organization, procedure, and practice. Specifically, the revisions include correcting references, correcting an address and correcting a misspelling. The Commission is exercising its authority under 5 U.S.C. 553(b)(3)(B) to publish these amendments as a final rule. The amendments are effective December 15, 2017. These amendments do not require action by any person or entity regulated by the NRC, and do not change the substantive responsibilities of any person or entity regulated by the NRC.

IV. Environmental Impact: Categorical Exclusion

The NRC has determined that this final rule is the type of action described in 10 CFR 51.22(c)(2), which categorically excludes from environmental review rules that are corrective or of a minor, nonpolicy nature and do not substantially modify existing regulations. Therefore, neither an environmental impact statement nor an environmental assessment has been prepared for this rule.

V. Paperwork Reduction Act Statement

This final rule does not contain a collection of information as defined in the Paperwork Reduction Act of 1995 (44 U.S.C. 3501 et seq.) and, therefore, is not subject to the requirements of the Paperwork Reduction Act of 1995.

Public Protection Notification

The NRC may not conduct or sponsor, and a person is not required to respond to, a collection of information unless the document requesting or requiring the collection displays a currently valid OMB control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the corrections in this final rule do not constitute backfitting and are not inconsistent with any of the issue finality provisions in 10 CFR part 52. The amendments are non-substantive in nature, including correcting references, correcting an address and correcting a misspelling. They impose no new requirements and make no substantive changes to the regulations. The corrections do not involve any provisions that would impose backfits as defined in 10 CFR chapter I, or would be inconsistent with the issue finality provisions in 10 CFR part 52. For these reasons, the issuance of the rule in final form would not constitute backfitting or represent a violation of any of the issue finality provisions in 10 CFR part 52. Therefore, the NRC has not prepared any additional documentation for this correction rulemaking addressing backfitting or issue finality.

List of Subjects

10 CFR Part 2

Administrative practice and procedure, Antitrust, Byproduct material, Classified information, Confidential business information, Freedom of information, Environmental protection, Hazardous waste, Nuclear energy, Nuclear materials, Nuclear power plants and reactors, Penalties, Reporting and recordkeeping requirements, Sex discrimination, Source material, Special nuclear material, Waste treatment and disposal.

10 CFR Part 9

Administrative practice and procedure, Courts, Criminal penalties, Freedom of information, Government employees, Privacy, Reporting and recordkeeping requirements, Sunshine Act.

10 CFR Part 40

Criminal penalties, Exports, Government contracts, Hazardous materials transportation, Hazardous waste, Nuclear energy, Nuclear materials, Penalties, Reporting and recordkeeping requirements, Source material, Uranium, Whistleblowing.

10 CFR Part 50

Administrative practice and procedure, Antitrust, Classified information, Criminal penalties, Education, Fire prevention, Fire protection, Incorporation by reference, Intergovernmental relations, Nuclear power plants and reactors, Penalties, Radiation protection, Reactor siting criteria, Reporting and recordkeeping requirements, Whistleblowing.

10 CFR Part 61

Criminal penalties, Hazardous waste, Indians, Intergovernmental relations, Low-level waste, Nuclear energy, Nuclear materials, Penalties, Reporting and recordkeeping requirements, Waste treatment and disposal, Whistleblowing.

10 CFR Part 71

Criminal penalties, Hazardous materials transportation, Incorporation by reference, Intergovernmental relations, Nuclear materials, Packaging and containers, Penalties, Radioactive materials, Reporting and recordkeeping requirements.

10 CFR Part 73

Criminal penalties, Exports, Hazardous materials transportation, Incorporation by reference, Imports, Nuclear energy, Nuclear materials, Nuclear power plants and reactors, Penalties, Reporting and recordkeeping requirements, Security measures.

10 CFR Part 110

Administrative practice and procedure, Classified information, Criminal penalties, Exports, Incorporation by reference, Imports, Intergovernmental relations, Nuclear energy, Nuclear materials, Nuclear power plants and reactors, Penalties, Reporting and recordkeeping requirements, Scientific equipment.

For the reasons set out in the preamble and under the authority of the Atomic Energy Act of 1954, as amended; the Energy Reorganization Act of 1974, as amended; and 5 U.S.C. 552 and 553, the NRC is adopting the following amendments to 10 CFR parts 2, 9, 40, 50, 61, 71, 73, and 110:

PART 2—AGENCY RULES OF PRACTICE AND PROCEDURE

1. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note. Section 2.205(j) also issued under 28 U.S.C. 2461 note.

§ 2.1200 [Amended]

2. In § 2.1200, remove the reference “2.101(f)(8)” and add in its place the reference “2.101(e)(8)”.

PART 9—PUBLIC RECORDS

3. The authority citation for part 9 continues to read as follows:

Authority: Atomic Energy Act of 1954, sec. 161 (42 U.S.C. 2201); Energy Reorganization Act of 1974, sec. 201 (42 U.S.C. 5841); 44 U.S.C. 3504 note.

Subpart A also issued under 31 U.S.C. 9701.

Subpart B also issued under 5 U.S.C. 552a.

Subpart C also issued under 5 U.S.C. 552b.

4. In part 9, wherever it may appear remove the word “he” and add in its place the phrase, “he or she”; wherever it may appear remove the word “him” and add in its place the phrase, “him or her”; wherever it may appear remove the word “himself” and add in its place the phrase, “himself or herself”; and wherever it may appear remove the word “his” and add in its place the phrase, “his or her”.

PART 40—DOMESTIC LICENSING OF SOURCE MATERIAL

5. The authority citation for part 40 continues to read as follows:

Authority: Atomic Energy Act of 1954, secs. 62, 63, 64, 65, 69, 81, 83, 84, 122, 161, 181, 182, 183, 184, 186, 187, 193, 223, 234, 274, 275 (42 U.S.C. 2092, 2093, 2094, 2095, 2099, 2111, 2113, 2114, 2152, 2201, 2231, 2232, 2233, 2234, 2236, 2237, 2243, 2273, 2282, 2021, 2022); Energy Reorganization Act of 1974, secs. 201, 202, 206, 211 (42 U.S.C. 5841, 5842, 5846, 5851); Uranium Mill Tailings Radiation Control Act of 1978, sec. 104 (42 U.S.C. 7914); 44 U.S.C. 3504 note.

§ 40.35 [Amended]

6. In § 40.35(f), remove the reference “§ 40.31(i)” and add in its place the reference “§ 40.31(j)(1)-(4)”.

PART 50—DOMESTIC LICENSING OF PRODUCTION AND UTILIZATION FACILITIES

7. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

8. Revise § 50.43(e) introductory text to read as follows:

§ 50.43 Additional standards and provisions affecting class 103 licenses and certifications for commercial power.

* * * * *

(e) Applications for a design certification, combined license, manufacturing license, operating license or standard design approval that propose nuclear reactor designs which differ significantly from light-water reactor designs that were licensed before 1997. Or use simplified, inherent, passive, or other innovative means to accomplish their safety functions will be approved only if:

* * * * *

9. Revise § 50.55a(b)(2)(ix)(B) to read as follows:

§ 50.55a Codes and standards.

* * * * *

(b) * * *

(2) * * *

(ix) * * *

(B) Metal containment examinations: Second provision. When performing remotely the visual examinations required by Subsection IWE, the maximum direct examination distance specified in Table IWA-2210-1 (1992 Edition through 2004 Edition) or Table IWA-2211-1 (2005 Addenda through the latest edition and addenda incorporated by reference in paragraph (a)(1) of this section) may be extended and the minimum illumination requirements specified may be decreased provided that the conditions or indications for which the visual examination is performed can be detected at the chosen distance and illumination.

* * * * *

PART 61—LICENSING REQUIREMENTS FOR LAND DISPOSAL OF RADIOACTIVE WASTE

10. The authority citation for part 61 continues to read as follows:

Authority: Atomic Energy Act of 1954, secs. 53, 57, 62, 63, 65, 81, 161, 181, 182, 183, 223, 234 (42 U.S.C. 2073, 2077, 2092, 2093, 2095, 2111, 2201, 2231, 2232, 2233, 2273, 2282); Energy Reorganization Act of 1974, secs. 201, 206, 211 (42 U.S.C. 5841, 5846, 5851); Low-Level Radioactive Waste Policy Amendments Act of 1985, sec. 2 (42 U.S.C. 2021b); 44 U.S.C. 3504 note.

§ 61.2 [Amended]

11. In § 61.2, wherever it may appear remove the reference “25 U.S.C. 450” and add in its place the reference “25 U.S.C. 5301”.

PART 71—PACKAGING AND TRANSPORTATION OF RADIOACTIVE MATERIAL

12. The authority citation for part 71 continues to read as follows:

Authority: Atomic Energy Act of 1954, secs. 53, 57, 62, 63, 81, 161, 182, 183, 223, 234, 1701 (42 U.S.C. 2073, 2077, 2092, 2093, 2111, 2201, 2232, 2233, 2273, 2282, 2297f); Energy Reorganization Act of 1974, secs. 201, 202, 206, 211 (42 U.S.C. 5841, 5842, 5846, 5851); Nuclear Waste Policy Act of 1982, sec. 180 (42 U.S.C. 10175); 44 U.S.C. 3504 note.

§ 71.4 [Amended]

13. In § 71.4, remove the reference “25 U.S.C. 479a” from the definition of “Indian tribe” and add in its place the reference “25 U.S.C. 5130”.

PART 73—PHYSICAL PROTECTION OF PLANTS AND MATERIALS

14. The authority citation for part 73 continues to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.37(b)(2) also issued under Sec. 301, Public Law 96-295, 94 Stat. 789 (42 U.S.C. 5841 note).

§ 73.2 [Amended]

15. In § 73.2, remove the reference “25 U.S.C. 479a” from the definition of “Indian tribe” and add in its place the reference “25 U.S.C. 5130”.

Appendix A to Part 73 [Amended]

16. In appendix A to part 73, remove the zip code “30303-1245” from the “Region II” entry in the first table, and add in its place the zip code “30303-1257”.

PART 110—EXPORT AND IMPORT OF NUCLEAR EQUIPMENT AND MATERIAL

17. The authority citation for part 110 continues to read as follows:

Authority: Atomic Energy Act of 1954, secs. 11, 51, 53, 54, 57, 62, 63, 64, 65, 81, 82, 103, 104, 109, 111, 121, 122, 123, 124, 126, 127, 128, 129, 133, 134, 161, 170h, 181, 182, 183, 184, 186, 187, 189, 223, 234 (42 U.S.C. 2014, 20710, 2073, 2074, 2077, 2092, 2093, 2094, 2095, 2111, 2112, 2133, 2134, 2139, 2141, 2151, 2152, 2153, 2154, 2155, 2156, 2157, 2158, 2160C, 2160D, 2201, 2210H, 2231, 2232, 2233, 2234, 2236, 2237, 2239, 2273, 2282); Energy Reorganization Act of 1974, secs. 201 (42 U.S.C. 5841); Administrative Procedure Act (5 U.S.C. 552, 553); 42 U.S.C. 2139a, 2155a; 44 U.S.C. 3504 note.

Section 110.1(b) also issued under 22 U.S.C. 2403; 22 U.S.C. 2778a; 50 App. U.S.C. 2401 et seq.

§ 110.2 [Amended]

18. In § 110.2, remove the word “Terabequerels” from the definition of “Specific activity” and add in its place the word “terabecquerels”.

§ 110.23 [Amended]

19. In § 110.23(a)(3), remove the word “terabequeral” and add in its place the word “terabecquerel”.

§ 110.32 [Amended]

20. In § 110.32(f)(1), remove the word “terabequerels” and add in its place the word “terabecquerels”.

Appendix P to Part 110 [Amended]

21. In Appendix P to Part 110, remove the word “Terabequerels” wherever it appears in Table 1 and add in its place the word “Terabecquerels”.

Dated at Rockville, Maryland, this 2nd day of November, 2017.
For the Nuclear Regulatory Commission.
Cindy Bladey,
Chief, Regulatory Analysis and Rulemaking Support Branch, Division of Rulemaking, Office of Nuclear Material Safety and Safeguards.

[FR Doc. 2017-24259 Filed 11-14-17; 8:45 am]

BILLING CODE 7590-01-P